DEPARTMENT OF HEALTH AND HUMAN SERVICES

Health Resources and Services Administration

Agency Information Collection Activities: Proposed Collection: Public Comment Request; Information Collection Request Title: Maternal and Child Health Bureau Performance Measures for Discretionary Grant Information System (DGIS), OMB No. 0915-0298—Revision

AGENCY: Health Resources and Services Administration (HRSA), Department of Health and Human Services.

ACTION: Notice.

SUMMARY: In compliance with the requirement of the Paperwork Reduction Act of 1995 for opportunity for public comment on proposed data collection projects, HRSA announces plans to submit an Information Collection Request (ICR), described below, to the Office of Management and Budget (OMB). Prior to submitting the ICR to OMB, HRSA seeks comments from the public regarding the burden estimate, below, or any other aspect of the ICR.

DATES: Comments on this ICR must be received no later than January 14, 2019.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Maternal and Child Health Bureau Performance Measures for Discretionary Grant Information System (DGIS), OMB No. 0915-0298—Revision

Abstract: This Information Collection Request is for continued approval of performance measures for HRSA's Maternal and Child Health Bureau (MCHB) discretionary grants, specifically, the continued use of reporting requirements for grant programs administered by MCHB in accordance with the “Government Performance and Results Act of 1993” (Pub. L. 103-62). This Act requires the preparation of an annual performance plan covering each program activity set forth in the agency's budget, which includes establishment of measurable goals that may be reported in an annual financial statement to support the linkage of funding decisions with performance. Performance measures for MCHB discretionary grants were initially approved in 2003, and the latest approval was obtained in 2016 for significant revisions. Continued approval from OMB is currently being sought to continue the use of performance measures with minor revisions. Most of these measures are specific to certain types of programs and are not required of all grantees. The measures are categorized by domains (Adolescent Health, Capacity Building, Child Health, Children with Special Health Care Needs, Lifecourse/Crosscutting, Maternal/Women Health, and Perinatal/Infant Health). In addition, there are some program-specific measures. Grant programs are assigned domains based on their activities. HRSA is proposing to make changes to the DGIS to more closely align data collection forms with current program activities. These revisions will facilitate more accurate reporting of descriptive information related to Long-term Trainees in Maternal and Child Health, as well as activities related to Technical Assistance for programs. Proposed changes include the following:

• Trainee Information (Long-term Trainees Only) form:

○ Changes will incorporate options and titles that were omitted from the final submission of the previous OMB package, providing clarification for the reporting of specific descriptive information about Long-term Trainees on the form.

○ Changes will list the following options for “Type”: “Non-Degree Seeking,” “Undergraduate,” “Masters,” “Doctoral,” Post-doctoral,” “Other.”

○ Changes will list the title “Student Status” next to the options for “Part-time student” and “Full-time student.”

• Technical Assistance/Collaboration form:

○ Add a field asking for the “Total number of TA recipients.” This change will allow for better alignment with this data that was previously collected by program, but omitted due to a DGIS paper form error.

○ Add an “Other” category to List B under “Topic of Technical Assistance/Collaboration.” This change would facilitate more accurate data reporting by providing programs an additional category to choose from if their current Technical Assistance activities do not closely align with the existing categories in List B.

Need and Proposed Use of the Information: The performance data collected through the DGIS serves several purposes, including grantee monitoring, program planning, performance reporting, and the ability to demonstrate alignment between MCHB discretionary programs and the Title V MCH Services Block Grant program. This revision will facilitate more accurate reporting of descriptive information related to Long-term Trainees in Maternal and Child Health, as well as activities related to Technical Assistance for programs.

Likely Respondents: The grantees for Maternal and Child Health Bureau Discretionary Grant Programs.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form | Number of respondents | Responses per respondent | Total responses | Average burden per response (in hours) | Total burden hours
Grant Report | 700 | 1 | 700 | 36 | 25,200
Total | 700 |  | 700 |  | 25,200

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy P. McNulty,
Acting Director, Division of the Executive Secretariat.

[FR Doc. 2018-24659 Filed 11-9-18; 8:45 am]

BILLING CODE 4165-15-P